SURFACE TRANSPORTATION BOARD

49 CFR Chapter X

[Docket No. EP 746]

Updating the Code of Federal Regulations

AGENCY: Surface Transportation Board.

ACTION: Final rules.

SUMMARY: The Surface Transportation Board (Board) is updating its regulations to replace certain obsolete or incorrect references in the regulations.

DATES: This rule is effective May 19, 2018.

FOR FURTHER INFORMATION CONTACT: Sarah Fancher: (202) 245-0355. Federal Information Relay Service (FIRS) for the hearing impaired: (800) 877-8339.

SUPPLEMENTARY INFORMATION: In this decision, the Board is revising, correcting, and updating its regulations in 49 CFR ch. X.

This decision makes the following changes to the Board's regulations:

• Eliminates or changes obsolete agency and/or office titles (e.g., 49 CFR 1011.6, 1105.7(b)(9), 1200.2);

• corrects obsolete contact information (e.g., 49 CFR 1244.4(c)(1));

• corrects references to United States Code or Code of Federal Regulations sections that have been moved or are otherwise incorrect (e.g., 49 CFR 1244.4, 1244.9(b));

• provides that appeals under 49 CFR 1244.9 must be filed with the Board (49 CFR 1244.9(d)(4)(iii)); and

• eliminates other obsolete or unnecessary material (i.e., 49 CFR 1105.7(b), 1244.9(d)(2)).

Because these revisions are not substantive and/or relate to rules of agency organization, procedure, or practice, the Board finds good cause that notice and comment under the Administrative Procedure Act (APA) are unnecessary. 5 U.S.C. 553(b)(3)(A) & (B).

The Regulatory Flexibility Act (RFA), as amended by the Small Business Regulatory Enforcement Fairness Act of 1996, 5 U.S.C. 601-612, generally requires an agency to prepare a regulatory flexibility analysis of any rule subject to notice and comment rulemaking requirements, unless the agency certifies that the rule will not have a significant economic impact on a substantial number of small entities. Because the Board has determined that notice and comment are not required under the APA for this rulemaking, the requirements of the RFA do not apply.

These final rules do not contain a new or amended information collection requirement subject to the Paperwork Reduction Act of 1995, 44 U.S.C. 3501-3521.

List of Subjects

49 CFR Part 1011

Administrative practice and procedure, Authority delegations (Government agencies), Organization and functions (Government agencies).

49 CFR Part 1105

Environmental impact statements, Reporting and recordkeeping requirements.

49 CFR Part 1200

Freight forwarders, Maritime carriers, Motor carriers, Railroads, Uniform System of Accounts.

49 CFR Part 1201

Railroads, Uniform System of Accounts.

49 CFR Part 1244

Freight, Railroads, Reporting and recordkeeping requirements.

49 CFR Part 1248

Freight, Railroads, Reporting and recordkeeping requirements, Statistics.

49 CFR Part 1260

Archives and records.

It is ordered:

1. The rule modifications set forth below are adopted as final rules.

2. This decision is effective May 19, 2018.

Decided: April 16, 2018.
By the Board, Board Members Begeman and Miller.
Kenyatta Clay,
Clearance Clark.

For the reasons set forth in the preamble, under the authority of 49 U.S.C. 1321, title 49, chapter X, parts 1011, 1105, 1200, 1201, 1244, 1248, and 1260 of the Code of Federal Regulations are amended as follows:

PART 1011—BOARD ORGANIZATION; DELEGATIONS OF AUTHORITY

1. The authority citation for part 1011 continues to read as follows:

Authority: 5 U.S.C. 553; 31 U.S.C. 9701; 49 U.S.C. 1301, 1321, 11123, 11124, 11144, 14122, and 15722.

§ 1011.6 [Amended]

2. In § 1011.6:

a. In paragraph (e), remove “Director of the Office of Economics, Environmental Analysis, and Administration” and add in its place “Director of the Office of Economics”.

b. In paragraph (f), remove “Director and Associate Director of the Office of Economics, Environmental Analysis, and Administration and the Chief of the Section of Economics” and add in its place “Director of the Office of Economics”.

PART 1105—PROCEDURES FOR IMPLEMENTATION OF ENVIRONMENTAL LAWS

3. Revise the authority citation for part 1105 to read as follows:

Authority: 16 U.S.C. 1456 and 1536; 42 U.S.C. 4332 and 6362(b); 49 U.S.C. 1301 note (1995) (Savings Provisions), 1321(a), 10502, and 10903-10905; 54 U.S.C. 306108.

4. In § 1105.7:

a. Revise paragraph (b)(9).

b. Remove the undesignated paragraph following paragraph (b)(11).

The revision reads as follows:

§ 1105.7 Environmental reports.

* * * * *

(b) * * *

(9) The Natural Resources Conservation Service;

* * * * *

PART 1200—GENERAL ACCOUNTING REGULATIONS UNDER THE INTERSTATE COMMERCE ACT

5. The authority citation for part 1200 continues to read as follows:

Authority: 49 U.S.C. 1321, 11142, 11143, 11144, 11145.

§ 1200.2 [Amended]

6. In § 1200.2, remove the references to “Office of Economics, Environmental Analysis, and Administration” everywhere they appear and add in those places “Office of Economics”.

PART 1201—RAILROAD COMPANIES

7. The authority citation for part 1201 continues to read as follows:

Authority: 49 U.S.C. 11142 and 11164.

Subpart B—[Amended]

8. In subpart B, section 930(d), remove the reference to “Office of Economics, Environmental Analysis, and Administration” and add in its place “Office of Economics”.

PART 1244—WAYBILL ANALYSIS OF TRANSPORTATION OF PROPERTY—RAILROADS

9. The authority citation for part 1244 continues to read as follows:

Authority: 49 U.S.C. 1321, 10707, 11144, 11145.

§ 1244.4 [Amended]

10. In § 1244.4:

a. In paragraph (a)(1), remove the reference to “§ 1244.3(b)” and add in its place “paragraph (b) of this section”.

b. In paragraph (a)(2), remove the reference to “§ 1244.3(c)” and add in its place “paragraph (c) of this section”.

c. In paragraph (b)(3):

i. Remove the reference to “§ 1244.3(b)” and add in its place “paragraph (b)(1) of this section”.

ii. Remove the reference to “§ 1244.3(b)(2)” and add in its place “paragraph (b)(2) of this section”.

d. In paragraph (c)(1), remove the phone number “(202) 245-0323” and add in its place “(202) 245-0333”.

§ 1244.9 [Amended]

11. In § 1244.9:

a. In paragraph (b)(1), remove the reference to “49 U.S.C. 11910(a)” and add in its place “49 U.S.C. 11904(a)”.

b. In paragraph (d)(2), remove the reference to “Ex Parte No. 385 (Sub-No. 2),”.

c. In paragraph (d)(4)(iii):

i. Remove “the Chairman” and add in its place “the Board”.

ii. Remove the reference to “49 CFR 1011.7(b)(1)” and add in its place “49 CFR 1011.6(b)”.

PART 1248—FREIGHT COMMODITY STATISTICS

12. The authority citation for part 1248 continues to read as follows:

Authority: 49 U.S.C. 1321, 11144 and 11145.

Subpart B—[Amended]

13. Remove the authority citation for subpart B.

PART 1260—[REMOVED]

14. Remove part 1260, consisting of a heading and note.

PARTS 1260 THROUGH 1269—[ADDED AND RESERVED]

15. Add reserved parts 1260 through 1269.

[FR Doc. 2018-07987 Filed 4-18-18; 8:45 am]

BILLING CODE 4915-01-P